DEPARTMENT OF TRANSPORTATION

Federal Aviation Administration

Eighty Eighth RTCA SC-147 Plenary Session Joint With EUROCAE WG-75

AGENCY: Federal Aviation Administration (FAA), U.S. Department of Transportation (DOT).

ACTION: Eighty Eighth RTCA SC-147 Plenary Session Joint With EUROCAE WG-75.

SUMMARY: The FAA is issuing this notice to advise the public of a meeting of Eighty Eighth RTCA SC-147 Plenary Session Joint with EUROCAE WG-75.

DATES: The meeting will be held May 18, 2018 9:00 a.m.-3:30 p.m.

ADDRESSES: The meeting will be held at: RTCA Headquarters, 1150 18th Street NW, Suite 910, Washington, DC 20036.

FOR FURTHER INFORMATION CONTACT: Al Secen at asecen@rtca.org or 202-330-0647, or The RTCA Secretariat, 1150 18th Street NW, Suite 910, Washington, DC 20036, or by telephone at (202) 833-9339, fax at (202) 833-9434, or website at http://www.rtca.org.

SUPPLEMENTARY INFORMATION: Pursuant to section 10(a)(2) of the Federal Advisory Committee Act (Pub. L. 92-463, 5 U.S.C., App.), notice is hereby given for a meeting of the Eighty Eighth RTCA SC-147 Plenary Session Joint with EUROCAE WG-75. The agenda will include the following:

1. Thursday, May 17 (and Possibly Friday May 18), 2018

2. Opening Plenary Session

A. Chairmen's Opening Remarks/Introductions

B. DFO Statement and RTCA Policies

C. Approval of Minutes from 87th Meeting of SC-147

D. Approval of Agenda

E. Future Meeting Scheduling

3. Updates on TSO Schedule, CERT Plan and Final Products (30 min/945-1015)

4. SC-147 TOR Revisions

A. Final MASPS for Interoperability of Collision Avoidance Systems Language

5. ACAS XA/XO MOPS

6. Final Review and Comment/Open Consultation Overview

7. Working Group Comment Resolution Review and Status

8. Open Comments

A. Discussion

9. ACAS XA/XO MOPS Approval Consideration

10. Next Steps

A. Comment Resolution Implementation Work-Plan

B. European Validation Process/Schedule

11. ACAS XU

I. Report from ACAS XU WG

12. Summary and Adjourn

13. Note: Plenary May Continue to Friday, May 18th Only if All Business is not Concluded on Thursday, May 17th.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on April 12, 2018.
Michelle Swearingen,
Systems and Equipment Standards Branch, AIR-6B0, Policy and Innovation Division, AIR-600, Federal Aviation Administration.

[FR Doc. 2018-07953 Filed 4-16-18; 8:45 am]

BILLING CODE 4910-13-P